DEPARTMENT OF ENERGY

Federal Energy Regulatory Commission

Combined Notice of Filings #1

Take notice that the Commission received the following exempt wholesale generator filings:

Docket Numbers: EG22-125-000.

Applicants: Jackpot Holdings LLC.

Description: Jackpot Holdings LLC submits Notice of Self-Certification of Exempt Wholesale Generator Status.

Filed Date: 5/20/22.

Accession Number: 20220520-5080.

Comment Date: 5 p.m. ET 6/10/22.

Docket Numbers: EG22-126-000.

Applicants: Fence Post Solar Project, LLC.

Description: Fence Post Solar Project, LLC submits Notice of Self-Certification of Exempt Wholesale Generator Status.

Filed Date: 5/20/22.

Accession Number: 20220520-5135.

Comment Date: 5 p.m. ET 6/10/22.

Docket Numbers: EG22-127-000.

Applicants: Ganado Solar, LLC.

Description: Ganado Solar, LLC submits Notice of Self-Certification of Exempt Wholesale Generator Status.

Filed Date: 5/20/22.

Accession Number: 20220520-5136.

Comment Date: 5 p.m. ET 6/10/22.

Docket Numbers: EG22-128-000.

Applicants: Stampede Solar Project, LLC.

Description: Stampede Solar Project, LLC submits Notice of Self-Certification of Exempt Wholesale Generator Status.

Filed Date: 5/20/22.

Accession Number: 20220520-5137.

Comment Date: 5 p.m. ET 6/10/22.

Take notice that the Commission received the following Complaints and Compliance filings in EL Dockets:

Docket Numbers: EL19-58-013.

Applicants: PJM Interconnection, L.L.C.

Description: Compliance filing: Compliance filing to May 13, 2022 Order in EL19-58 with 5 Day Comment Period to be effective 9/29/2021.

Filed Date: 5/20/22.

Accession Number: 20220520-5098.

Comment Date: 5 p.m. ET 5/27/22.

Take notice that the Commission received the following electric rate filings:

Docket Numbers: ER18-194-004; ER18-195-004.

Applicants: American Electric Power Service Corporation, Southwest Power Pool, Inc., American Electric Power Service Corporation, Southwest Power Pool, Inc.

Description: Compliance Filing to March 24, 2022 Order of American Electric Power Service Corporation.

Filed Date: 5/19/22.

Accession Number: 20220519-5172.

Comment Date: 5 p.m. ET 6/9/22.

Docket Numbers: ER22-1089-001.

Applicants: Jackson Generation, LLC.

Description: Compliance filing: Compliance Filing to be effective N/A.

Filed Date: 5/20/22.

Accession Number: 20220520-5139.

Comment Date: 5 p.m. ET 6/10/22.

Docket Numbers: ER22-1409-001.

Applicants: Midcontinent Independent System Operator, Inc., Ameren Transmission Company of Illinois.

Description: Tariff Amendment: Midcontinent Independent System Operator, Inc. submits tariff filing per 35.17(b): 2022-05-20_ATXI Amendment Attachment O Transmission Formula Rate to be effective 6/1/2022.

Filed Date: 5/20/22.

Accession Number: 20220520-5081.

Comment Date: 5 p.m. ET 6/10/22.

Docket Numbers: ER22-1517-001.

Applicants: Mid-Atlantic Interstate Transmission, LLC, PJM Interconnection, L.L.C.

Description: Tariff Amendment: Mid-Atlantic Interstate Transmission, LLC submits tariff filing per 35.17(b): MAIT's Amendment revising SA No. 6341 in Docket No. ER22-1517 to be effective 5/31/2022.

Filed Date: 5/20/22.

Accession Number: 20220520-5121.

Comment Date: 5 p.m. ET 6/10/22.

Docket Numbers: ER22-1571-001.

Applicants: NextEra Energy Transmission New York, Inc., New York Independent System Operator, Inc.

Description: Tariff Amendment: NextEra Energy Transmission New York, Inc. submits tariff filing per 35.17(b): Amendment to NextEra formula rate filing of new depreciation rate to be effective 6/1/2022.

Filed Date: 5/20/22.

Accession Number: 20220520-5071.

Comment Date: 5 p.m. ET 6/10/22.

Docket Numbers: ER22-1917-000.

Applicants: Midcontinent Independent System Operator, Inc., Ameren Transmission Company of Illinois.

Description: § 205(d) Rate Filing: Midcontinent Independent System Operator, Inc. submits tariff filing per 35.13(a)(2)(iii): 2022-05-20_SA 3826 ATXI-AECI TIA to be effective 5/21/2022.

Filed Date: 5/20/22.

Accession Number: 20220520-5063.

Comment Date: 5 p.m. ET 6/10/22.

Docket Numbers: ER22-1918-000.

Applicants: ISO New England Inc., New England Power Company.

Description: Compliance filing: ISO New England Inc. submits tariff filing per 35: NEP; Compliance to Submit Conformed & Executed 3rd Rev. TSA-NEP-83 & TSA-NEP-86 to be effective 1/1/2022.

Filed Date: 5/20/22.

Accession Number: 20220520-5066.

Comment Date: 5 p.m. ET 6/10/22.

Docket Numbers: ER22-1919-000.

Applicants: Long Beach Peakers LLC.

Description: Tariff Amendment: Notice of Cancellation to be effective 5/21/2022.

Filed Date: 5/20/22.

Accession Number: 20220520-5074.

Comment Date: 5 p.m. ET 6/10/22.

Docket Numbers: ER22-1920-000.

Applicants: West Penn Power Company, PJM Interconnection, L.L.C.

Description: § 205(d) Rate Filing: West Penn Power Company submits tariff filing per 35.13(a)(2)(iii: West Penn Power Submits revised IA No. 5327 to be effective 7/20/2022.

Filed Date: 5/20/22.

Accession Number: 20220520-5083.

Comment Date: 5 p.m. ET 6/10/22.

Docket Numbers: ER22-1921-000.

Applicants: Aragonne Wind LLC.

Description: Tariff Amendment: Notices of Cancellation and Withdrawal of Rate Schedule for Aragonne Wind to be effective 5/21/2022.

Filed Date: 5/20/22.

Accession Number: 20220520-5084.

Comment Date: 5 p.m. ET 6/3/22.

Docket Numbers: ER22-1922-000.

Applicants: Tri-State Generation and Transmission Association, Inc.

Description: § 205(d) Rate Filing: Amendment to Rate Schedule FERC No. 61 to be effective 7/19/2022.

Filed Date: 5/20/22.

Accession Number: 20220520-5086.

Comment Date: 5 p.m. ET 6/10/22.

Docket Numbers: ER22-1923-000.

Applicants: Midcontinent Independent System Operator, Inc.

Description: § 205(d) Rate Filing: 2022-05-20_Attachment X_Shared Interconnection Facilities to be effective 7/20/2022.

Filed Date: 5/20/22.

Accession Number: 20220520-5103.

Comment Date: 5 p.m. ET 6/10/22.

Docket Numbers: ER22-1924-000.

Applicants: Alabama Power Company, Georgia Power Company, Mississippi Power Company.

Description: § 205(d) Rate Filing: Alabama Power Company submits tariff filing per 35.13(a)(2)(iii: Cooperative Energy NITSA Amendment Filing (Contract Demand Reduction) to be effective 4/21/2022.

Filed Date: 5/20/22.

Accession Number: 20220520-5113.

Comment Date: 5 p.m. ET 6/10/22.

Docket Numbers: ER22-1925-000.

Applicants: Midcontinent Independent System Operator, Inc., Ameren Illinois Company.

Description: § 205(d) Rate Filing: Midcontinent Independent System Operator, Inc. submits tariff filing per 35.13(a)(2)(iii: 2022-05-20_SA 3028 Ameren IL-Prairie Power 1st Rev Project#16-A Monmouth to be effective 5/21/2022.

Filed Date: 5/20/22.

Accession Number: 20220520-5119.

Comment Date: 5 p.m. ET 6/10/22.

Docket Numbers: ER22-1926-000.

Applicants: PJM Interconnection, L.L.C.

Description: § 205(d) Rate Filing: Amendment to WMPA, SA No. 4841; Queue No. AC2-136 (amend) to be effective 10/25/2017.

Filed Date: 5/20/22.

Accession Number: 20220520-5143.

Comment Date: 5 p.m. ET 6/10/22.

Docket Numbers: ER22-1927-000.

Applicants: Bracewell LLP, Sunnybrook Farm Solar, LLC.

Description: Baseline eTariff Filing: Bracewell LLP submits tariff filing per 35.12: Application for Market-Based Rate Authorization, Request for Related Waivers to be effective 8/1/2022.

Filed Date: 5/20/22.

Accession Number: 20220520-5156.

Comment Date: 5 p.m. ET 6/10/22.

Docket Numbers: ER22-1928-000.

Applicants: Bracewell LLP, Salt City Solar LLC.

Description: Baseline eTariff Filing: Bracewell LLP submits tariff filing per 35.12: Application for Market-Based Rate Authorization, Request for Related Waivers to be effective 8/1/2022.

Filed Date: 5/20/22.

Accession Number: 20220520-5158.

Comment Date: 5 p.m. ET 6/10/22.

Docket Numbers: ER22-1929-000.

Applicants: Bracewell LLP, ENGIE Solidago Solar LLC.

Description: Baseline eTariff Filing: Bracewell LLP submits tariff filing per 35.12: Application for Market-Based Rate Authorization, Request for Related Waivers to be effective 8/1/2022.

Filed Date: 5/20/22.

Accession Number: 20220520-5162.

Comment Date: 5 p.m. ET 6/10/22.

Docket Numbers: ER22-1930-000.

Applicants: Quintessence, LLC, Bracewell LLP.

Description: Baseline eTariff Filing: Quintessence, LLC submits tariff filing per 35.12: Application for Market-Based Rate Authorization, Request for Related Waivers to be effective 7/20/2022.

Filed Date: 5/20/22.

Accession Number: 20220520-5164.

Comment Date: 5 p.m. ET 6/10/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2022.
Kimberly D. Bose,
Secretary.

[FR Doc. 2022-11337 Filed 5-25-22; 8:45 am]

BILLING CODE 6717-01-P